ENVIRONMENTAL PROTECTION AGENCY

[EPA-HQ-OPP-2005-0086; FRL-8027-1]

Agency Information Collection Activities; Submission to OMB for Review and Approval; Comment Request; Notice of Pesticide Registration by States To Meet a Special Local Need Under FIFRA Section 24(c), EPA ICR Number 0595.09, OMB Control Number 2070-0055

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. The ICR, which is abstracted below, describes the nature of the information collection activity and its expected burden and costs.

DATES: Additional comments may be submitted on or before March 3, 2006.

ADDRESSES: Submit your comments, referencing Docket ID No. EPA-HQ-OPP-2005-0086, to (1) EPA online using www.regulations.gov (our preferred method), by e-mail to opp.ncic@epa.gov, or by mail to: Public Information and Records Integrity Branch (PIRIB) (7502C), Office of Pesticide Programs (OPP), Environmental Protection Agency, 1200 Pennsylvania Ave., NW., Washington, DC 20460-0001, and (2) OMB by mail to: Office of Information and Regulatory Affairs, Office of Management and Budget (OMB), Attention: Desk Officer for EPA, 725 17th Street, NW., Washington, DC 20503.

FOR FURTHER INFORMATION CONTACT: Cameo G. Smoot, Field and External Affairs Division, Office of Pesticide Programs, 7506C, Environmental Protection Agency, 1200 Pennsylvania Ave., NW., Washington, DC 20460; telephone number: 703-305-5454; fax number: 703-305-5884; e-mail address: smoot.cameo@epa.gov.

SUPPLEMENTARY INFORMATION: EPA has submitted the following ICR to OMB for review and approval according to the procedures prescribed in 5 CFR 1320.12. On April 20, 2005, (70 FR 20538), EPA sought comments on this ICR pursuant to 5 CFR 1320.8(d). EPA received one comment on this ICR during the 60-day comment period and has addressed it in the ICR. Any additional comments on this ICR should be submitted to EPA and OMB within 30 days of this notice.

EPA has established a public docket for this ICR under Docket ID No. EPA-HQ-OPP-2005-0086, which is available for online viewing at www.regulations.gov, or in person viewing at the Office of Pesticide Programs Docket in the Public Information and Records Integrity Branch, Crystal Mall #2, Rm. 119, 1801 S. Bell St., Arlington, VA. This docket facility is open from 8:30 a.m. to 4 p.m., Monday through Friday, excluding legal holidays. The docket telephone number is (703) 305-5805.

Use EPA's electronic docket and comment system at www.regulations.gov, to submit or view public comments, access the index listing of the contents of the docket, and to access those documents in the docket that are available electronically. Once in the system, select “docket search,” then key in the Docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Notice of Pesticide Registration by States to Meet a Special Local Need under FIFRA Section 24(c).

ICR Status: This is a request to renew an existing approved collection that is scheduled to expire on January 31, 2006. Under OMB regulations, agencies may continue to conduct or sponsor the collection of information while this submission is pending at OMB. This ICR describes the nature of the information collection and its estimated burden and cost. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable.

Abstract: This data collection program is designed to provide the EPA with the necessary data to review approval of a state issued pesticide registration. Section 24(c) of the Federal Insecticide, Fungicide, and Rodenticide Act (FIFRA) authorizes the States to register additional uses of federally registered pesticides for distribution and use within the State to meet a special local need (SLN). A state-issued registration under section 24(c) is deemed a federal registration for the purposes of the pesticides use within the States boundaries. Under the law, and pursuant to 40 CFR part 162, subpart D, a State must notify EPA, in writing, of any action it takes, i.e., issues, amends, or revokes a state registration. EPA has 90 days to disapprove the registration. In such cases, the State is responsible for notifying the affected registrant.

Burden Statement: Under the PRA, “burden” means the total time, effort, or financial resources expended by persons to generate, maintain, retain, or disclose or provide information to or for a Federal Agency. It includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The ICR provides a detailed explanation of this estimate, which is only briefly summarized in this notice. The annual public burden for this ICR is estimated to be 23,400. The following is a summary of the estimates taken from the ICR:

Respondents/Affected Entities: States and territorial governments.

Estimated Number of Respondents: 60.

Frequency of Response: On occasion.

Estimated Total Annual Hour Burden: 23,400.

Estimated Total Annual Labor Cost: $2,126,520.

Changes in the Estimates: There is an increase of 5,200 hours in the total estimated burden currently identified in the OMB Inventory of Approved ICR Burdens. This increase is an adjustment based on a rise in the number of petitions received annually over the last 3 years.

Dated: January 20, 2006.
Oscar Morales,
Director, Collection Strategies Division.

[FR Doc. E6-1352 Filed 1-31-06; 8:45 am]

BILLING CODE 6560-50-P